DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 13, 2011. Address written comments to Statutory Import Programs Staff, Room 3720, U.S. Department of Commerce, Washington, DC 20230. Applications may be examined between 8:30 a.m. and 5 p.m. at the U.S. Department of Commerce in Room 3720.

Docket Number: 11-022. Applicant: Lawrence Technological University, 21000 W. 10 Mile Road, Southfield, MI 48075. Instrument: FEI Quanta 450 FEG Electron Microscope. Manufacturer: FEI Company, Brno, Czech Republic. Intended Use: The instrument will be used to study polymers for biomedical applications; metals and ceramics used in orthopaedic implants; cement used in construction; lubricated components in automotives; and electrode materials in lithium ion batteries. Justification for Duty-Free Entry: There are no instruments of the same general category being manufactured in the United States. Application accepted by Commissioner of Customs: May 9, 2011.

Docket Number: 11-027. Applicant: U.C. Davis, One Shields Avenue, Davis, CA 95616. Instrument: Sacher Lasertechnik Laser System. Manufacturer: Sacher Lasertechnik, LLC, Marburg, Germany. Intended Use: The instrument will be used for scientific research related to the development of a new optical technique for analyzing biological cells, for applications in biological and biomedical sciences. Justification for Duty-Free Entry: There are no instruments of the same general category being manufactured in the United States. Application accepted by Commissioner of Customs: May 3, 2011.

Dated: May 17, 2011.
Gregory W. Campbell,
Director, Subsidies Enforcement Office, Office of Policy, Import Administration.

[FR Doc. 2011-12657 Filed 5-20-11; 8:45 am]

BILLING CODE 3510-DS-P